DEPARTMENT OF COMMERCE

National Oceanic and Atmospheric Administration

[I.D. 031403F ]

Endangered and Threatened Species; Take of Anadromous Fish

AGENCY: National Marine Fisheries Service (NOAA Fisheries), National Oceanic and Atmospheric Administration (NOAA), Commerce.

ACTION: Notice of availability and request for comments.

SUMMARY: Notice is hereby given of the availability of a draft Routine Road Maintenance Program (RMP) that Marion County, Oregon, Department of Public Works, has submitted pursuant to Endangered Species Act (ESA). NOAA Fisheries promulgated a protective rule for 14 threatened salmon and steelhead Evolutionarily Significant Units (ESUs). The RMP would affect four ESUs of threatened salmonids identified in the SUPPLEMENTARY INFORMATION section. The 4(d) rule provides for limits on ESA take prohibitions for the various activities set out in the rule. The RMP addresses the limit for routine road maintenance activities of any state, city, county or port. This document serves to notify the public of the availability of the RMP for review and comment before a final approval or disapproval is made by NOAA Fisheries.

DATES: Written comments on the draft RMP must be received no later than 5 p.m. Pacific Standard Time on April 28, 2003.

ADDRESSES: Written comments should be sent to Dr. Nancy Munn, Habitat Conservation Division, National Marine Fisheries Service, 525 NE Oregon Street, Suite 500, Portland, OR 97232.

Comments may also be faxed to 503-231-6893. Copies of the entire RMP are available on the Internet at: http://publicworks.co.marion.or.us/environment/salmon/Limit10/PDF/Oct2002/02index.htm, or from the address posted on that site. Comments will not be accepted if submitted via email or the Internet.

FOR FURTHER INFORMATION CONTACT: Dr. Nancy Munn at phone number: 503-231-6269, or e-mail: nancy.munn@noaa.gov.

SUPPLEMENTARY INFORMATION: This notice is relevant to the following four threatened salmon ESUs:

Chinook salmon (Oncorhynchus tshawytscha); threatened Upper Willamette River (UWR) and Lower Columbia River (LCR).

Steelhead (Oncorhynchus mykiss); threatened Upper Willamette River (UWR) and Lower Columbia River (LCR).

Background

Marion County submitted the RMP for routine road maintenance activities that might affect certain salmonid ESUs listed as threatened in Marion County. The RMP was designed so that routine road maintenance activities would be protective of salmonids and their habitat.

As specified in the July 10, 2000, ESA 4(d) rule for salmon and steelhead (65 FR 42422) under limit 10(I), take prohibitions to threatened species of salmonids do not apply to routine road maintenance activities of a state, county, city or port that complies with a program that is substantially similar to that contained in the Oregon Department of Transportation (ODOT) Routine Road Maintenance Water Quality and Habitat Guide Best Management Practices (Guide, July 1999), and that is determined to meet or exceed the protections provided in the ODOT Guide. NOAA Fisheries may approve a routine road maintenance program of any state, city, county or port that contains management practices that are equivalent to or better than those in the ODOT Guide. Prior to final approval of a routine road maintenance program, NOAA Fisheries must publish notification in the Federal Register announcing the program's availability for public review and comment.

Part 1 of the RMP is a cover letter to D. Robert Lohn, Regional Administrator of NOAA Fisheries and a statement of commitment from Marion County to implement the RMP. In Part 2, the RMP describes the program and provides information on the legal authority for the program. In Part 3, the RMP provides a description of the geographic area to which the program applies, including a list of county roads or locations where maintenance activities may impact streams, the location of salmon habitat in the relevant watersheds, and an analysis of the environmental baseline of those watersheds. Part 3 also includes maps that show fish distributions and other relevant background information. In Part 4 , the RMP describes the listed species distribution and status, and in Part 5, a bibliography of relevant reports are provided. In Part 6, the RMP makes an affirmative conclusion that the program is substantially similar to or better than ODOT's program, and summarizes the training, monitoring, and reporting elements of the RMP.

The RMP also includes four attachments that are fundamental to the program. Attachment 1 is a table that compares ODOT's and Marion County's best management practices. Attachment 2 describes the best management practices being implemented by Marion County, including their dust abatement activities. Attachment 3 describes and provides documentation for the Salmon Recovery Mapping Project. The Salmon Recovery Mapping Project documents the best available biological and natural resource geospatial data relevant to threatened salmonids in Marion County and directs or limits best management practices where their activities are adjacent to or have the potential to affect threatened salmonids. The end result is two mapping projects: the Sensitive Area Maps that depict the relevant biological and natural resource data at a scale that can be used to direct activities on the ground, and the Environmentally Sensitive Zone Maps that direct or limit best management practices along county roads. The maps are available for review on the Internet at the site identified in ADDRESSES. Attachment 4 provides instructions on how to connect the best management practices to the Environmentally Sensitive Zone Maps.

The RMP defines what activities are routine road maintenance. These consist of maintenance activities that are conducted on currently serviceable structures, facilities, and equipment, involve no expansion of or change in use, and do not result in significant negative hydrological impact. The Marion County best management practices (Attachment 2) includes activities beyond routine road maintenance activities as presented in ODOT's Guide (e.g., park maintenance, ferry maintenance and operation, fleet maintenance, service districts) and these specific activities are not eligible for approval at this time. Approval or disapproval or the RMP will depend on NOAA Fisheries' findings after public review and comment.

Authority

Under section 4 of the ESA, the Secretary of Commerce is required to adopt such regulations as he deems necessary and advisable for the conservation of species listed as threatened. The ESA salmon and steelhead 4(d) rule (65 FR 424222, July 10, 2000) identifies specific categories of activities that contribute to the conservation of listed salmonids and sets out the criteria for such activities. The rule further provides that the prohibitions of paragraph (a) of the rule do not apply to activities associated with routine road maintenance provided that a state or local program has been approved by NOAA Fisheries to be in accordance with the salmon and steelhead 4(d) rule (65 FR 424222, July 10, 2000).

Dated: March 18, 2003.
Phil Williams,
Chief, Endangered Species Division, Office of Protected Resources, National Marine Fisheries Service.

[FR Doc. 03-7515 Filed 3-27-03; 8:45 am]

BILLING CODE 3510-22-S